DEPARTMENT OF DEFENSE

Department of the Navy

[Docket ID USN-2015-0001]

Privacy Act of 1974; System of Records

AGENCY: Department of the Navy, DoD.

ACTION: Notice to alter a System of Records.

SUMMARY: The Department of the Navy proposes to alter the system of records, N01754-4, entitled “Navy Family Accountability and Assessment System (NFAAS)” in its inventory of record systems subject to the Privacy Act of 1974, as amended.

This system is used to account for personnel (status and location(s)) following a natural/manmade disaster or when directed by the Secretary of Defense to assess the impact of the disaster on DoD affiliated personnel and their families, by conducting a needs assessment survey; to capture information required to support Navy and DoD affiliated personnel as they return to a stable state following a disaster; and to track Navy affiliated personnel and family members' support requirements and command readiness efforts in areas such as Individual Augmentation Deployments, Exceptional Family Member Program, and mandated training.

DATES: Comments will be accepted on or before February 23, 2015. This proposed action will be effective the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, Head, PA/FOIA Office (DNS-36), Department of the Navy, 2000 Navy Pentagon, Washington, DC 20350-2000, or by phone at (202) 685-6545.

SUPPLEMENTARY INFORMATION: The Department of the Navy's notices for systems of records subject to the Privacy Act of 1974 (5 U.S.C. 552a), as amended, have been published in the Federal Register and are available from the address in FOR FURTHER INFORMATION CONTACT or from the Defense Privacy and Civil Liberties Office Web site at http://dpclo.defense.gov/. The proposed system report, as required by 5 U.S.C. 552a(r) of the Privacy Act of 1974, as amended, was submitted on December 3, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: January 15, 2015.
Aaron Siegel,
Alternate OSD Federal Register Liaison Officer, Department of Defense.

N01754-4

System name:

Navy Family Accountability and Assessment System (NFAAS) (August 16, 2007, 72 FR 46045).

Changes:

* * * * *

Categories of individuals covered by the system:

Delete entry and replace with “DoD affiliated personnel that includes Military service members (active duty, Guard/Reserve and the Coast guard personnel when operating as a military service with the Navy), civilian employees, family members of the above and contractors working at DoD facilities.”

Categories of records in the system:

Delete entry and replace with “The military departments may request information to assess the needs of affiliated personnel using a needs assessment survey to help determine any specific emergent needs. Surveys are to include the date of assessment, the type of event and category classification, contacts with the military family, and a Federal Emergency Management Agency (FEMA) Number (if issued).

Individual augmentation deployment records include post deployment health assessments (PDHA) dates, dates of deployment, and contacts with the service member or contractor and family. Exceptional Family Members Program information that include dependent identification and categories. Additional information collected includes the individual's full name, Social Security Number (SSN), DoD ID Number, date of birth, gender, DoD affiliation, branch of service, military status, rank/rate, duty station address, mailing/home address, home/work/cell telephone numbers, home/work email addresses, name of sponsor, sponsor SSN; spouse and child information: name, date of birth, and number of children; medical information: Medical history, illness/diagnosis, and medical treatment; education information: Current grade level, provider/school name, school district, provider/school address, provider/school office/fax numbers; emergency contact information: Spouses name and mailing/home addresses, children names, date of births, mailing/home addresses, home/cell telephone numbers; parent's names, mailing/home addresses, home/cell telephone numbers; or emergency contacts name and address.”

Authority for maintenance of the system:

Delete entry and replace with “10 U.S.C. 5013, Secretary of the Navy; 10 U.S.C. 136, Under Secretary of Defense for Personnel and Readiness; DoD Instruction 3001.02, Personnel Accountability in Conjunction with Natural Disasters or National Emergencies; OPNAVINST 3006.1, Personnel Accountability in Conjunction with Catastrophic Events; SECNAV Instruction 1754.5B Exceptional Family Member Program; and E.O. 9397 (SSN), as amended.”

Purposes:

Delete entry and replace with “To account for personnel (status and whereabouts) following a natural/manmade disaster or when directed by the Secretary of Defense.

To assess the impact of the disaster on DoD affiliated personnel and their families, by conducting a needs assessment survey.

To capture information required to support Navy and DoD affiliated personnel as they return to a stable state following a disaster.

To track Navy affiliated personnel and family members' support requirements and command readiness efforts in areas such as Individual Augmentation Deployments, Exceptional Family Member Program, and mandated training.”

Routine uses of records maintained in the system, including categories of users and the purposes of such uses:

Delete entry and replace with “In addition to those disclosures generally permitted under 5 U.S.C. 552a(b) of the Privacy Act of 1974, as amended, these records contained therein may specifically be disclosed outside the DoD as a routine use pursuant to 5 U.S.C. 552a(b)(3) as follows:

The DoD Blanket Routine Uses set forth at the beginning of the Department of Navy's compilation of system of records notices may apply to this system.”

* * * * *

Safeguards:

Delete entry and replace with “All records and data collected are maintained in controlled areas accessible only to authorized personnel with a need-to-know. Information maintained on computer requires Common Access Card (CAC) and passwords, which are “For Official Use Only” (FOUO) records. Physical access to facilities is controlled by locked terminals and rooms, security guards, identification badges, key cards, and locks.”

* * * * *

System manager(s) and address:

Delete entry and replace with “Commander, Navy Installations Command, 716 Sicard Street SE., Building 111, Washington Navy Yard, DC 20388-0001.”

Notification procedure:

Delete entry and replace with “Individuals seeking to determine whether this system of records contains information about themselves should address written inquiries to the Commander, Navy Installations Command, 716 Sicard Street SE., Building 111, Washington Navy Yard, DC 20388-0001.

The request should include the individual's full name, SSN, address, date of birth and must be signed.

The system manager may require an original signature or a notarized signature as a means of proving the identity of the individual.”

Record access procedures:

Delete entry and replace with “Individuals seeking access to records about themselves contained in this system of records should log on to: https://navyfamily.navy.mil or address written inquires to the Commander, Navy Installations Command, 716 Sicard Street SE., Building 111, Washington Navy Yard, DC 20388-0001.

The request should include the individual's full name, SSN, address, date of birth and must be signed.

The system manager may require an original signature or a notarized signature as a means of proving the identity of the individual requesting access to the records.”

* * * * *

Record source categories:

Delete entry and replace with “Individual; Defense Manpower Data Center (DMDC); Defense Enrollment Eligibility Reporting System (DEERS); Officer Personnel Information System (OPINS); Navy Enlisted System (NES); Inactive Manpower and Personnel Management Information System (IMAPMIS); Defense Civilian Personal Data System (DCPDS); and Need Assessment Survey.”

* * * * *

[FR Doc. 2015-00910 Filed 1-21-15; 8:45 am]

BILLING CODE 5006-01-P